ENVIRONMENTAL PROTECTION AGENCY

[ER-FRL-9019-9]

Environmental Impact Statements; Notice of Availability

Responsible Agency: Office of Federal Activities, General Information (202) 564-7146 or http://www.epa.gov/compliance/nepa/.

Weekly receipt of Environmental Impact Statements

Filed 03/02/2015 through 03/06/2015

Pursuant to 40 CFR 1506.9.

Notice: Section 309(a) of the Clean Air Act requires that EPA make public its comments on EISs issued by other Federal agencies. EPA's comment letters on EISs are available at: http://www.epa.gov/compliance/nepa/eisdata.html.

EIS No. 20150057, Draft EIS, APHIS, 00,PROGRAMMATIC—Asian Longhorned Beetle Eradication Program, Comment Period Ends: 04/27/2015, Contact: Jim E. Warren 202-316-3216.

EIS No. 20150058, Final EIS, USA, CO,Pinon Canyon Maneuver Site (PCMS) Training and Operations, Review Period Ends: 04/13/2015, Contact: Pamela M. Klinger 210-466-1595.

EIS No. 20150059, Draft EIS, NMFS, WA, The Makah Tribe Request to Hunt Gray Whales, Comment Period Ends: 06/11/2015, Contact: Steve Stone 503-231-2317.

EIS No. 20150060, Draft Supplement, TVA, TN, Integrated Resource Plan, Comment Period Ends: 04/27/2015, Contact: Charles P. Nicholson 865-632-3582.

EIS No. 20150061, Draft EIS, CALTRANS, CA,SR 710 North Improvements, Comment Period Ends: 07/06/2015, Contact: Garrett Damrath 213-897-0357.

EIS No. 20150062, Draft EIS, USFS, CA,Westside Fire Recovery Project, Comment Period Ends: 04/13/2015, Contact: Wendy Coats 530-841-4470.

The U.S. Department of Agriculture's Forest Service requested and was granted approval to shorten the public comment period for this Draft EIS from 45 to 30 days, reflecting the President's Council on Environmental Quality (CEQ) alternative arrangements granted in accordance with 40 CFR 1506.11.

Dated: March 10, 2015.
Cliff Rader,
Director, NEPA Compliance Division, Office of Federal Activities.

[FR Doc. 2015-05862 Filed 3-12-15; 8:45 am]

BILLING CODE 6560-50-P